DEPARTMENT OF HOUSING AND URBAN DEVELOPMENT

[Docket No. FR-7090-N-07]

60-Day Notice of Proposed Information Collection: 2023 American Housing Survey; OMB Control No.: 2528-0117

AGENCY: Office of Policy Development and Research, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: November 4, 2024.

ADDRESSES: Interested persons are invited to submit comments regarding this proposal.

Written comments and recommendations for the proposed information collection can be submitted within 60 days of publication of this notice to www.regulations.gov. Interested persons are also invited to submit comments regarding this proposal by name and/or OMB Control Number and can be sent to: Anna Guido, Reports Management Officer, REE, Department of Housing and Urban Development, 451 7th Street SW, Room 8210, Washington, DC 20410-5000 or email at PaperworkReductionActOffice@hud.gov.

FOR FURTHER INFORMATION CONTACT: Anna Guido, Reports Management Officer, Department of Housing and Urban Development, 451 7th Street SW, Washington, DC 20410; email; Anna.P.Guido@hud.gov; telephone (202) 402-5535 (this is not a toll-free number). HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Guido.

SUPPLEMENTARY INFORMATION: This notice informs the public that HUD is seeking approval from OMB for the information collection described in Section A.

A. Overview of Information Collection

Title of Information Collection: 2025 American Housing Survey.

OMB Approval Number: 2528-0017.

Type of Request: Revision of a currently approved collection.

Form Number: N/A.

Description of the need for the information and proposed use: The purpose of the American Housing Survey (AHS) is to supply the public with detailed and timely information about housing quality, housing costs, and neighborhood assets, in support of effective housing policy, programs, and markets. Title 12, United States Code, Sections 1701Z-1, 1701Z-2(g), and 1710Z-10a mandates the collection of this information.

Increasing field costs and declining response rates have led HUD to adopt a continuous data collection model as opposed to the periodic 5-month data collection every other year. HUD believes continuous data collection will be more effective, primarily because: (1) it eliminates the expensive, time-consuming Regional Office AHS ramp-up costs every two years, and (2) it puts in place a more experienced AHS workforce with a constant workload. An added benefit is that we will be able to increase the frequency of national and metro AHS estimates, allowing for more current estimates and better comparability to other data sources which collect annual data (surveys such as the American Community Survey and key estimates such as homeownership/vacancy rates).

The survey will continue to be longitudinal, interviewing the same housing unit every two years. The sample will be divided into 12 cohorts where each cohort has a 2-month data collection period. Data collection will begin May 2025.

In addition to the “core” data, HUD plans to collect supplemental data on climate adaptation and mitigation, arts and culture, accessibility, doubling up, and accessory dwelling units. Additionally wording variations related to sexual orientation and gender will be tested in support of the American Community Survey Content Test.

The 2025 survey will begin a new longitudinal sample consisting of approximately 175,000 housing units. The sample is designed to provide estimates twenty metropolitan areas and at least seventeen states. An oversample of HUD-assisted housing units is included in the sample design. For the first survey cycle (2025-26) a bridge sample will be fielded. The bridge sample will be drawn from housing units that were successfully interviewed in 2023.

The bridge sample serves as an evaluation tool. If something unforeseen were to happen with the 2025 sample, the estimates from the bridge sample can measure what the 2025 estimates would have looked like if we had not redesigned the AHS sample. The bridge sample size will be 8,500. Approximately seven percent of all interviews will be reinterviewed for the purpose of interviewer quality control (an estimated total of 12,845 housing units).

To help reduce respondent burden on households in the longitudinal sample, the 2025 AHS will make use of dependent interviewing techniques, which will decrease the number of questions asked. Policy analysts, program managers, budget analysts, and Congressional staff use AHS data to advise executive and legislative branches about housing conditions and the suitability of public policy initiatives. Academic researchers and private organizations also use AHS data in efforts of specific interest and concern to their respective communities.

The Department of Housing and Urban Development (HUD) needs the AHS data for the following two reasons:

1. With the data, policy analysts can monitor the interaction among housing needs, demand and supply, as well as changes in housing conditions and costs, to aid in the development of housing policies and the design of housing programs appropriate for different target groups, such as first-time home buyers and the elderly.

2. With the data, HUD can evaluate, monitor, and design HUD programs to improve efficiency and effectiveness.

Members of affected public: Households.

Estimated number of respondents: 187,845.

Estimated time per response: 29.64 minutes.

Frequency of response: One time every two years.

Estimated total annual burden hours: 46,416.91.

Estimated total annual cost: The only cost to respondents is that of their time. The total estimated cost is $1,072,694.79.

Respondent's obligation: Voluntary.

Legal authority: The collection of information is conducted under title 12, United States Code, section 1701z and section 3507 of the Paperwork Reduction Act of 1995, 44 U.S.C. ch. 35, as amended.

Information collection | Number of respondents | Frequency of response | Responses per annum | Burden hour per response | Annual burden hours | Hourly cost per response | Annual cost
Occupied Interviews | 119,000.00 | 1.00 | 59,500.00 | .75 | 44,625.00 | $23.11 | $1,031,283.75
Vacant Interviews | 17,500.00 | 1.00 | 8,750.00 | .08 | 700.00 | 23.11 | 16,177.00
Non-interviews | 33,250.00 | 1.00 | 16,625.00 | .00 | .00 | 23.11 | 0.00
Ineligible | 5,250.00 | 1.00 | 2,625.00 | .00 | .00 | 23.11 | 0.00
Subtotal | 175,000.00 | 1.00 | 87,500.00 | .00 | .00 | 23.11 | 0.00
Reinterviews | 12,845.00 | 1.00 | 6,423.00 | .17 | 1,091.91 | 23.11 | 25,234.04
Total | 187,845.00 |  | 93,923.00 |  | 46,416.91 |  | 1,072,694.79

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected, and

(4) Ways to minimize the burden of the collection of information on those who are to respond; including through the use of appropriate automated collection techniques or other forms of information technology, e.g., permitting electronic submission of responses.

HUD encourages interested parties to submit comments in response to these questions.

C. Authority

Section 3507 of the Paperwork Reduction Act of 1995, 44 U.S.C. 3507.

Todd M. Richardson,
General Deputy Assistant Secretary for Policy Development and Research.

[FR Doc. 2024-19706 Filed 8-30-24; 8:45 am]

BILLING CODE 4210-67-P